DEPARTMENT OF TRANSPORTATION

National Highway Traffic Safety Administration

49 CFR Part 571

[Docket No. NHTSA-2003-15947]

RIN 2127-AI85

Federal Motor Vehicle Safety Standards; Occupant Crash Protection

AGENCY: National Highway Traffic Safety Administration (NHTSA); Department of Transportation (DOT).

ACTION: Correcting amendment.

SUMMARY: This rule corrects an error in the figure for the removable dash label required under Federal Motor Vehicle Safety Standard (FMVSS) No. 208, Occupant Cash Protection. This document resolves the problem by adding Figure 12, in order to restore consistency between the advanced air bag removable dash label and the advanced air bag sun visor warning label. This document also corrects a cross reference to the definition of “carlines” contained in the limited line manufacturer exception to the advanced air bag phase-in requirements.

DATES: This final rule is effective August 20, 2003.

FOR FURTHER INFORMATION CONTACT: For non-legal issues, you may contact Lou Molino, Office of Crashworthiness Standards, Light Duty Vehicle Division, NVS-112. Telephone: (202) 366-2264. Fax: (202) 493-2739. For legal issues, you may contact Chris Calamita, Office of the Chief Counsel, NCC-20. Telephone: (202) 366-2992. Fax: (202) 366-3820.

You may send mail to these officials at the National Highway Traffic Safety Administration, 400 Seventh St., SW, Washington, DC 20590.

SUPPLEMENTARY INFORMATION: In a January 6, 2003 final rule, NHTSA amended the label requirements for vehicles certified to the advanced air bag requirements. (68 FR 504) The final rule added a bullet statement to the sun visor label (FMVSS No. 208, Figure 11) that states: “Never put a rear-facing child seat in the front.” The statement has been required on air bag labels in vehicles without advanced air bags since 1996, but was not required for the advanced air bag labels. (65 FR 30680; May 12, 2000.) The decision not to include the statement was in recognition that the advanced air bag requirements are intended to minimize the risk related to air bag deployments. However, the only means to completely eliminate the risk of air bag-related injury or death to children in rear facing child restraints is to never place them in the vehicle's front seat.

The re-insertion of the statement on the sun visor label highlights the especially high risk of air bag-related injury or death to children in rear-facing child restraints. It also educates the public about the need to ensure that all children are properly restrained in the back seat.

However, the inclusion of the statement in the sun visor label, but not the dash label, created an inconsistency between the labels. Prior to the January 2003 amendment, the advanced air bag sun visor label (FMVSS No. 208, Figure 8) and the current advanced air bag dash label (FMVSS No. 208, Figure 9) were identical in content. Having this intentional consistency was necessary to avoid confusing consumers about the importance of the warnings.

In response to the January 2003 final rule, Honda commented that, “the Removable Label on Dash (Figure 9) that should correspond to the applicable sun visor label was not amended. To avoid confusing or misleading users, the statement ‘never put a rear-facing child seat in the front’ should be added in the removable label.” The agency agrees that the warnings on the removable dash label and sun visor label should be consistent.

To maintain consistency and conform the dash label to the sun visor label, Figure 12 is added to FMVSS No. 208, which is identical to Figure 9 except that Figure 12 has an additional bullet point stating: “Never put a rear-facing child seat in the front.” Maintaining the uniformity of the dash and sun visor labels ensures that users are not confused as to the importance of placing rear-facing child seats in the vehicle's back seat. To further maintain consistency with the sun visor label, the bullet point will not be required on the temporary dash label if the vehicle has no back seat or the back seat is too small to accommodate a rear-facing child restraint.

The removable dash labels required on vehicles certified on or after December 1, 2003, must conform to Figure 12 of FMVSS No. 208. The labels on vehicles certified before December 1, 2003, must conform to either Figure 9 or 12.

This amendment also corrects a cross reference in S14.1(b), which incorrectly cites 49 CFR 585.4 for the definition of “carline.” The correct cross-reference is 49 CFR 583.4.

List of Subjects in 49 CFR Part 571

Imports, Motor vehicle safety, Motor vehicles, Rubber and rubber products, Tires.

In consideration of the foregoing, NHTSA amends 49 CFR part 571 as follows:

PART 571—FEDERAL MOTOR VEHICLE SAFTEY STANDARDS

1. The authority citation for part 571 of Title 49 continues to read as follows:

Authority: 49 U.S.C. 322, 30111, 30115, 30117, and 30166; delegation of authority at 40 CFR 1.50.

2. Section 571.208 is amended as follows:

a. By revising paragraph (e) in S4.5.1;

b. By revising paragraph (b) in S14.1; and

c. By adding Figure 12 immediately following Figure 11.

The additions and revisions read as follows: § 571.208 Standard No. 208; Occupant crash protection.

* * * * *

S4.5 Other general requirements.

S4.5.1 Labeling and owner's manual information.

* * * * *

(e) Label on the dashboard. (1) Except as provided in S4.5.1(e)(2), each vehicle that is equipped with an inflatable restraint for the passenger position shall have a label attached to a location on the dashboard or the steering wheel hub that is clearly visible from all front seating positions. The label need not be permanently affixed to the vehicle. This label shall conform in content to the label shown in Figure 7 of this standard, and shall comply with the requirements of S4.5.1(e)(1)(i) through S4.5.1(e)(1)(iii).

(i) The heading area shall be yellow with the word “WARNING” and the alert symbol in black.

(ii) The message area shall be white with black text. The message area shall be no less than 30 cm² (4.7 in²).

(iii) If the vehicle does not have a back seat, the label shown in Figure 7 may be modified by omitting the statement: “The back seat is the safest place for children 12 and under.”

(2) Vehicles certified to meet the requirements specified in S19, S21, and S23 before December 1, 2003, that are equipped with an inflatable restraint for the passenger position shall have a label attached to a location on the dashboard or the steering wheel hub that is clearly visible from all front seating positions. The label need not be permanently affixed to the vehicle. This label shall conform in content to the label shown in either Figure 9 or Figure 12 of this standard, at manufacturer's option, and shall comply with the requirements of S4.5.1(e)(2)(i) through S4.5.1(e)(2)(iv).

(i) The heading area shall be yellow with black text.

(ii) The message area shall be white with black text. The message area shall be no less than 30 cm² (4.7 in²).

(iii) If the vehicle does not have a back seat, the labels shown in Figures 9 and 12 may be modified by omitting the statement: “The back seat is the safest place for children.”

(iv) If the vehicle does not have a back seat or the back seat is too small to accommodate a rear-facing child restraint consistent with S4.5.4.1, the label shown in Figure 12 may be modified by omitting the statement: “Never put a rear-facing child seat in the front.”

(3) Vehicles certified to meet the requirements specified in S19, S21, and S23 on or after December 1, 2003, that are equipped with an inflatable restraint for the passenger position shall have a label attached to a location on the dashboard or the steering wheel hub that is clearly visible from all front seating positions. The label need not be permanently affixed to the vehicle. This label shall conform in content to the label shown in Figure 12 of this standard and shall comply with the requirements of S4.5.1(e)(3)(i) through S4.5.1(e)(3)(iv).

(i) The heading area shall be yellow with black text.

(ii) The message area shall be white with black text. The message area shall be no less than 30 cm² (4.7 in²).

(iii) If the vehicle does not have a back seat, the label shown in Figure 12 may be modified by omitting the statement: “The back seat is the safest place for children.”

(iv) If the vehicle does not have a back seat or the back seat is too small to accommodate a rear-facing child restraint consistent with S4.5.4.1, the label shown in Figure 12 may be modified by omitting the statement: “Never put a rear-facing child seat in the front.”

* * * * *

S14.1 Vehicles manufactured on or after September 1, 2003, and before September 1, 2006.

* * * * *

(b) Manufacturers that sell three or fewer carlines, as that term is defined at 49 CFR 583.4, in the United States may, at the option of the manufacturer, meet the requirements of this paragraph instead of paragraph (a) of this section. Each vehicle manufactured on or after September 1, 2005 shall meet the requirement specified in S14.5.1(a), S14.5.2, S15.1, S15.2, S17, S19, S21, S23, and S25 (in addition to the other requirements specified in this standard).

* * * * *

* * * * *

Issued on August 14, 2003.
Stephen R. Kratzke,
Associate Administrator for Rulemaking.

[FR Doc. 03-21221 Filed 8-19-03; 8:45 am]

BILLING CODE 4910-59-P